DEPARTMENT OF DEFENSE

Office of the Secretary

Charter Renewal of Department of Defense Federal Advisory Committees

AGENCY: Department of Defense (DoD).

ACTION: Renewal of Federal Advisory Committee.

SUMMARY: The DoD is publishing this notice to announce that it is renewing the charter for the Ocean Research Advisory Panel (“the Panel”).

FOR FURTHER INFORMATION CONTACT: Jim Freeman, Advisory Committee Management Officer for the Department of Defense, 703-692-5952.

SUPPLEMENTARY INFORMATION: The Panel's charter is being renewed in accordance with the Federal Advisory Committee Act (FACA) (5 U.S.C., Appendix) and 41 CFR 102-3.50(a). The charter and contact information for the Panel's Designated Federal Officer (DFO) are found at https://www.facadatabase.gov/FACA/apex/FACAPublicAgencyNavigation.The Panel shall provide the Secretary of Defense and the Deputy Secretary of Defense, through the Secretary of the Navy, with independent advice and recommendations on matters relating to national oceanographic data requirements. The Panel shall: (a) Provide advice on policies and procedures to implement the National Oceanographic Partnership Program; (b) provide advice on selection of partnership projects and allocation of funds for partnership projects for implementation under the program; (c) provide advice on matters relating to national oceanographic data requirements and fulfill any additional responsibilities that the Committee considers appropriate.

The Panel shall be composed of no more than 18 members appointed in accordance with DoD policies and procedures, who are eminent authorities in the fields of science, engineering, medicine, leadership, or academia.

Panel members who are not full-time or permanent part-time Federal civilian officers, employees, or active duty members of the Armed Forces will be appointed as experts or consultants, pursuant to 5 U.S.C. 3109, to serve as special government employee members. Panel members who are full-time or permanent part-time Federal civilian officers, employees, or active duty members of the Armed Forces will be appointed pursuant to 41 CFR 102-3.130(a), to serve as regular government employee members.

All members of the Panel are appointed to provide advice on the basis of their best judgment without representing any particular point of view and in a manner that is free from conflict of interest. Except for reimbursement of official Panel-related travel and per diem, members serve without compensation.

The public or interested organizations may submit written statements to the Panel membership about the Panel's mission and functions. Written statements may be submitted at any time or in response to the stated agenda of planned meeting of the Panel. All written statements shall be submitted to the DFO for the Panel, and this individual will ensure that the written statements are provided to the membership for their consideration.

Dated: April 17, 2020.
Aaron T. Siegel,
Alternate OSD Federal Register Liaison Officer, Department of Defense.

[FR Doc. 2020-08555 Filed 4-21-20; 8:45 am]

BILLING CODE 5001-06-P